DEPARTMENT OF AGRICULTURE

Natural Resources Conservation Service

Withdrawal of Notice of Intent To Prepare an Environmental Impact Statement for the Manoa Watershed, Honolulu County, HI

AGENCY: Natural Resources Conservation Service, Department of Agriculture.

ACTION: Notice of Intent (Withdrawal).

SUMMARY: Withdraw from publication the Notice of Intent dated Thursday, March 22, 2007, Federal Register/Vol. 72. No. 55, the Natural Resources Conservation Service (NRCS) announced its intention to prepare an Environmental Impact Statement (EIS) in accordance with the National Environmental Policy Act for the Manoa Watershed Plan to mitigate residential and commercial flooding in Manoa Valley, City and County of Honolulu, Hawaii. The Manoa Watershed Plan and joint EIS would be prepared by NRCS, State of Hawaii Department of Land and Natural Resources, and the City and County of Honolulu. The federal authority for the project was the Watershed Protection and Flood Prevention Act (Pub. L. 83-566, as amended). The EIS would evaluate the full range of alternatives to mitigate flooding of the magnitude experienced on October 30, 2004, when an intense rainstorm hit the upper Manoa Valley, causing nearly $100 million in flood damage to residences, businesses, and facilities at the University of Hawaii. The Manoa Watershed project has not received funding in the 2007 and 2008 fiscal years. The Manoa Watershed area will be incorporated into the Ala Wai Canal Project, administered by the U.S. Army Corps of Engineers which will continue to pursue a flood protection plan for Manoa Valley. The U.S. Army Corps of Engineers published a Notice of Intent to prepare an Environmental Impact Statement for the Ala Wai Canal Project in the Federal Register on October 2, 2008. Therefore, NRCS is withdrawing its Notice of Intent to prepare an EIS.

FOR FURTHER INFORMATION CONTACT: Lawrence T. Yamamoto, Director, Pacific Islands Area, Natural Resources Conservation Service, 300 Ala Moana Blvd., Room 4-118, P.O. Box 50004, Honolulu, HI 96850; Telephone: (808) 541-2600, ext. 105.

SUPPLEMENTARY INFORMATION: NRCS has provided technical and financial assistance for planning and implementation of water resources projects to state and county sponsors in Hawaii and the Pacific Islands through the Watershed Protection and Flood Prevention Act, as amended, since 1964. Funding for the Manoa Watershed project was authorized in Section 726 of the 2006 Agricultural Appropriations Act. The funds have produced significant planning products for the Manoa Watershed, including community and public planning events, topographic mapping, hydrologic and hydraulic modeling, initial environmental and historic assessments, and formulation of measures to reduce flood damage. These planning products will be documented in technical reports to be completed by September 30, 2008, instead of a preliminary EIS. The technical reports will be utilized for the Manoa Subwatershed phase of the U.S. Army Corps of Engineers' Ala Wai Canal Watershed Project. A public meeting was conducted on July 22, 2008, to report on the termination of the Manoa Watershed project by NRCS, review the planning products, and discuss the transition of the Manoa Watershed into a phase of the Ala Wai Canal Project.

(This activity is listed in the catalog of Federal Domestic Assistance under No. 10.904—Watershed Protection and Flood Prevention—and is subject to the provisions of Executive Order 12372 which requires intergovernmental consultation with State and local officials.)

Dated: October 7, 2008.
Lawrence T. Yamamoto,
Director, Pacific Islands Area, Natural Resources Conservation Service.

[FR Doc. E8-25213 Filed 10-22-08; 8:45 am]

BILLING CODE 3410-16-P